DEPARTMENT OF JUSTICE

Antitrust Division

Notice Pursuant to the National Cooperative Research and Production Act of 1993—Low Cost, High Performance and Highly Reliable Polymer Electrolyte Membrane for Fuel Cell Applications

Notice is hereby given that, on June 27, 2000, pursuant to Section 6(a) of the National Cooperative Research and Production Act of 1993, 15 U.S.C. 4301 et seq. (“the Act”), Plug Power Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Plug Power Inc., Latham, NY; General Electric Company, acting through GE Corporate R&D, Niskayuna, NY; and Albany International Research Company, Mansfield, MA. The nature and objectives of the venture are to conduct research on low cost, high performance and highly reliable polymer electrolyte membranes for fuel cell applications.

Constance K. Robinson,
Director of Operations, Antitrust Division.

[FR Doc. 00-20148 Filed 8-8-00; 8:45 am]

BILLING CODE 4410-11-M